DEPARTMENT OF HEALTH AND HUMAN SERVICES

Centers for Disease Control and Prevention

[30DAY-61-00]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer; Human Resources and Housing Branch, New Executive Office Building, Room 10235; Washington, DC 20503. Written comments should be received within 30 days of this notice.

Proposed Projects

National Telephone Survey of Chronic Fatigue Syndrome and Clinical Evaluation Study—New—National Center for Infectious Disease (NCID). In 1997, OMB approved the information collection “Chronic Fatigue Syndrome Surveillance and Related Studies, Prevalence and Incidence of Fatiguing Illness in Sedgwick County, Kansas” under OMB Number 0920-0401. Data from this cross-sectional, random-digit-dial survey of prolonged fatiguing illness in Sedgwick County (Wichita), Kansas concluded that prolonged fatigue affects over 6 percent of the population, the prevalence of chronic fatigue syndrome (CFS) was 0.24 percent, and that CFS prevalence was highest in white females (0.36 percent).

The proposed study replicates the Sedgwick County study using identical methodology and data collection instruments. The study begins with a random-digit-dial telephone survey to identify fatigued and non-fatigued individuals followed by a detailed telephone interview to obtain additional data on participants' health status. Study objectives are to refine estimates of the magnitude of fatiguing illness and CFS in the United States, with special consideration of under-served populations (children and racial/ethnic minorities), and to determine if the occurrence of fatiguing illness exhibits metropolitan, urban, and rural differences. Prevalence estimates from this proposed cross-sectional study of the U.S. population will be compared to those obtained for Sedgwick County to determine if the Sedgwick County findings can be generalized to the U.S. The estimated total burden hours is 11,835.

Pilot Study and Telephone Component

Form name | No. of respondents | No. of responses/ respondent | Average burden/response (in hrs.)
Screening questionnaire:
Pilot | 563 | 1 | 5/60
Telephone | 66,000 | 1 | 5/60
Extended questionnaire
Pilot | 100 | 1 | 25/60
Telephone | 12,610 | 1 | 25/60

Clinic Component

Form name | No. of respondents | No. of responses/ respondent | Average burden/response (in hrs.)
Medical history questionnaire:
Adult | 600 | 1 | 25/60
Medical history questionnaire:
Adolescent | 15 | 1 | 30/60
Medical history questionnaire:
Parent of adolescent | 15 | 1 | 30/60
Sleep disorders questionnaire:
Adults | 600 | 1 | 7/60
Fatigue questionnaire:
Adults and adolescents | 615 | 1 | 15/60
Fatigue questionnaire:
Parent of adolescent | 15 | 1 | 15/60
SF-36 questionnaire:
Adult, adolescent, parent of adolescents | 630 | 1 | 11/60
Diagnostic interview schedule:
Adult | 600 | 1 | 45/60
Diagnostic interview schedule:
Parent version | 15 | 1 | 45/60
Diagnostic interview schedule:
Child version | 15 | 1 | 45/60

Dated: August 18, 2000.
Nancy Cheal,
Acting Associate Director for Policy, Planning and Evaluation, Centers for Disease Control and Prevention (CDC).

[FR Doc. 00-21608 Filed 8-23-00; 8:45 am]

BILLING CODE 4163-18-P